DEPARTMENT OF HEALTH AND HUMAN SERVICES

Centers for Medicare & Medicaid Services

[Document Identifier: CMS-10565 and CMS-10175]

Agency Information Collection Activities: Submission for OMB Review; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including the necessity and utility of the proposed information collection for the proper performance of the agency's functions, the accuracy of the estimated burden, ways to enhance the quality, utility, and clarity of the information to be collected, and the use of automated collection techniques or other forms of information technology to minimize the information collection burden.

DATES: Comments on the collection(s) of information must be received by the OMB desk officer by July 23, 2025.

ADDRESSES: Written comments and recommendations for the proposed information collection should be sent within 30 days of publication of this notice to www.reginfo.gov/public/do/PRAMain. Find this particular information collection by selecting “Currently under 30-day Review—Open for Public Comments” or by using the search function.

To obtain copies of a supporting statement and any related forms for the proposed collection(s) summarized in this notice, please access the CMS PRA website by copying and pasting the following web address into your web browser: https://www.cms.gov/Regulations-and-Guidance/Legislation/PaperworkReductionActof1995/PRA-Listing.

FOR FURTHER INFORMATION CONTACT: William Parham at (410) 786-4669.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: Revision of a currently approved collection; Title of Information Collection: Medicare Advantage Model of Care Submission Requirements; Use: Section 1859(f)(7) of the Act and 42 CFR 422.101(f)(3) requires that all SNP MOCs be approved by NCQA. This approval is based on NCQA's evaluation of SNPs' MOC narratives using MOC scoring guidelines. Section 50311 of the BBA of 2018 modified the MOC requirements for C-SNPs in section 1859 (f)(5)(B)(i-v) of the Act, requiring them to submit on an annual basis. The BBA mandated additional changes for C-SNPs related to care management, HRAs, individualized care plans, a minimum benchmark for scoring, etc., for which CMS has applied these requirements to all SNP types.

SNPs will submit initial and renewal MOCs as well as summaries of any substantive off-cycle MOC changes to CMS through HPMS. This is the platform that CMS uses to coordinate communication and the collection of information from MAOs.

NCQA and CMS will use information collected in the SNP Application HPMS module to review and approve MOC narratives in order for an MAO to offer a new SNP in the upcoming calendar year(s). This information is used by CMS as part of the MA SNP application process. NCQA and CMS will use information collected in the Renewal Submission section of the HPMS MOC module to review and approve the MOC narrative for the SNP to receive a new approval period and operate in the upcoming calendar year(s). Form Number: CMS-10565 (OMB control number 0938-1296); Frequency: Occasionally; Affected Public: Private Sector, Business or other for-profits; Number of Respondents: 1,915; Total Annual Responses: 1,915; Total Annual Hours: 8,465. (For policy questions regarding this collection contact Daniel Lehman at 410-786-8929 or daniel.lehman@cms.hhs.gov.)

2. Type of Information Collection Request: Extension of a currently approved collection; Title of Information Collection: Certification Statement for Electronic File Interchange Organizations (EFIOs) that submit National Provider Identifier (NPI) data to the National Plan and Provider Enumeration System (NPPES); Use: the EFI process allows organizations to submit NPI application information on large numbers of providers in a single file. Once it has obtained and formatted the necessary provider data, the EFIO can electronically submit the file to NPPES for processing. As each file can contain up to approximately 25,000 records, or provider applications, the EFI process greatly reduces the paperwork and overall administrative burden associated with enumerating providers. It is essential to collect this information from the EFIO to ensure that the EFIO understands its legal responsibilities as an EFIO and attests that it has the authority to act on behalf of the providers for whom it is submitting data. In short, the certification statement, which must be signed by an authorized official of the EFIO, serves as a safeguard against EFIOs attempting to obtain NPIs for illicit or inappropriate purposes. Form Number: CMS-10175 (OMB control number 0938-0984); Frequency: Once, Annually; Affected Public: Private Sector, State, Business, and Not-for Profits; Number of Respondents: 36; Number of Responses: 36; Total Annual Hours: 9. (For questions regarding this collection contact Katie Brooks at 667-414-0612.)

William N. Parham, III,
Director, Division of Information Collections and Regulatory Impacts, Office of Strategic Operations and Regulatory Affairs.

[FR Doc. 2025-11408 Filed 6-20-25; 8:45 am]

BILLING CODE 4120-01-P